SMALL BUSINESS ADMINISTRATION

[Disaster Declaration #21106 and #21107; ARKANSAS Disaster Number AR-20028]

Presidential Declaration Amendment of a Major Disaster for Public Assistance Only for the State of Arkansas

AGENCY: U.S. Small Business Administration.

ACTION: Amendment 1.

SUMMARY: This is an amendment of the Presidential declaration of a major disaster for Public Assistance Only for the State of Arkansas (FEMA-4873-DR), dated May 21, 2025.

Incident: Severe Storms, Tornadoes, and Flooding.

DATES: Issued on June 6, 2025.

Incident Period: April 2, 2025, through April 22, 2025.

Physical Loan Application Deadline Date: July 22, 2025.

Economic Injury (EIDL) Loan Application Deadline Date: February 23, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: The notice of the President's major disaster declaration for Private Non-Profit organizations in the State of Arkansas, dated May 21, 2025, is hereby amended to extend the deadline for filing applications for physical damage as a result of this disaster to July 22, 2025.

All other information in the original declaration remains unchanged.

(Catalog of Federal Domestic Assistance Number 59008)

James Stallings,
Associate Administrator, Office of Disaster Recovery & Resilience.

[FR Doc. 2025-10718 Filed 6-11-25; 8:45 am]

BILLING CODE 8026-09-P